DEPARTMENT OF TRANSPORTATION

Federal Aviation Administration

[Docket No. FAA-2025-5436]

Agency Information Collection Activities: Requests for Comments; Clearance of a Renewed Approval of Information Collection: Reduction of Fuel Tank Flammability on Transport Category Airplanes

AGENCY: Federal Aviation Administration (FAA), DOT.

ACTION: Notice and request for comments.

SUMMARY: In accordance with the Paperwork Reduction Act of 1995, FAA invites public comments about our intention to request the Office of Management and Budget (OMB) approval to renew a previously approved information collection. The current Fuel Tank Flammability Safety rule 25.981 requires the Design Approval Holder (DAH) to report to the FAA on the component reliability of the fuel tank flammability reduction means. DAH as specified in AC 25.981-2A is the holder of any design approval, including type certificate, amended type certificate, supplemental type certificate, amended supplemental type certificate, Parts Manufacturer Approval (PMA), Technical Standard Order (TSO) authorization, letter of TSO design approval, and field approvals. As the transport aircraft fleet continues to fly longer than expected and component reliability may be affected or degraded, the data collection is needed on an on-going basis to ensure the aircraft fuel tank safety level continues to meet the predicted reliability at the time of certification. This collection of information supports the FAA's Safety Management System (SMS) safety goal and by proactively identifying hazards and mitigating risks before incidents occur.

DATES: Written comments should be submitted by March 30, 2026.

ADDRESSES: Please send written comments:

By Electronic Docket: www.regulations.gov (Enter docket number into search field).

By mail: AIR Directives Management Officer, FAA Directives and Forms, Fort Worth, Texas, by email at: 9-avs-air-directives-management-officer@faa.gov; phone: 817-222-5332/5220

FOR FURTHER INFORMATION CONTACT: Phil Dang by email at: Philip.M.Dang@faa.gov; phone: 206-231-3442.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0710.

Title: Reduction of Fuel Tank Flammability on Transport Category Airplanes.

Form Numbers: There are no FAA forms associated with this collection.

Type of Review: Renewal of an information collection.

Background: This is a Federal Register Notice with a 60-day comment period soliciting comments on the following collection of information for OMB Control Number 2120-0710. In accordance with 14 CFR 25.981(b)(2) Fuel tank explosion prevention and Part 25 Appendix M25.5 Fuel Tank System Flammability Reduction Means (FRM), the effects of aircraft component failures on the FRM reliability must be assessed on an on-going basis. All Design Approval Holders (DAH) as specified in AC 25.981-2A such as Type Certificate (TC) holders and Parts Manufacturer Approval (PMA) holders must submit component reliability reports and flammability analysis documentation to demonstrate to their FAA Oversight Office and/or Certificate Management Office that they are compliant with the Fuel Tank Flammability Safety rule (73 FR 42443). Semi-annual reports submitted by DAH provide listings of component failures discovered during scheduled or unscheduled maintenance so that the reliability of the flammability reduction means can be verified by the FAA.

Respondents: Approximately twenty Design approval holders.

Frequency: Every 6 months or 2 reports per year.

Estimated Average Burden per Response: 40 hours each report.

Estimated Total Annual Burden: 1,600 hours.

Issued in Kansas City, Missouri, on January 23rd, 2026.
Patrick R. Mullen,
Technical Policy Branch Manager, AIR-620, Policy & Standards Division, AIR-600, Aircraft Certification Service.

[FR Doc. 2026-01535 Filed 1-26-26; 8:45 am]

BILLING CODE 4910-13-P